GENERAL SERVICES ADMINISTRATION

[OMB Control No. 3090-0292; Docket No. 2024-0001; Sequence No. 1]

Submission for OMB Review; FFATA Subaward and Executive Compensation Reporting Requirements

AGENCY: Office of the Integrated Award Environment, General Services Administration (GSA).

ACTION: Notice of request for comments regarding an extension to an existing OMB information collection.

SUMMARY: Under the provisions of the Paperwork Reduction Act of 1995, the Regulatory Secretariat Division will be submitting to the Office of Management and Budget (OMB) a request to review and approve a renewal of the currently approved information collection requirement regarding FFATA Subaward and Executive Compensation Reporting Requirements.

DATES: Submit comments on or before June 24, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Salomeh Ghorbani, Director, IAE Outreach and Stakeholder Engagement Division, at 703-605-3467 or IAE_Admin@gsa.gov.

SUPPLEMENTARY INFORMATION:

A. Purpose

The Federal Funding Accountability and Transparency Act (Pub. L. 109-282, as amended by section 6202(a) of Pub. L. 110-252), known as FFATA or the Transparency Act requires information disclosure of entities receiving Federal financial assistance through Federal awards such as Federal contracts, sub-contracts, grants and sub-grants, FFATA 2(a),(2),(i),(ii). Beginning October 1, 2010, the currently approved Paperwork Reduction Act submission directed compliance with the Transparency Act to report prime and first-tier subaward data. Specifically, Federal agencies and prime awardees of grants were to ensure disclosure of executive compensation of both prime and subawardees and subaward data pursuant to the Transparency Act. This information collection requires reporting of only the information enumerated under the Transparency Act.

B. Annual Reporting Burden

Sub-award Responses: 536,394.

Hours per Response: 1.

Total Burden Hours: 536,394.

Executive Compensation Responses: 3,106.

Hours per Response: 1.

Total Burden Hours: 3,106.

Total Annual Burden Hours: 539,500.

C. Public Comments

A 60-day notice published in the Federal Register at 89 FR 11280 on February 14, 2024. Two comments were received.

Comment: GSA received a comment about the burden on large federal contractors that have large subcontractor supply chains. Another comment noted the overall FFATA reporting burden beyond FSRS reporting and estimated this overall effort for prime contractors.

GSA Response: This information collection is specific to recipients of federal financial assistance, not contracts. The burden calculated in this information collection is specific to FSRS reporting of financial assistance and does not include burden already calculated with the commensurate regulations issued for subaward reporting in 2 CFR part 170. The information collection is conducted in a manner in FSRS to minimize overall burden on federal financial assistance recipients while complying with The Federal Funding Accountability and Transparency Act (FFATA), “Transparency Act,”.

Comment: GSA received a comment that the information collection is unnecessary and does not have practical utility since federal contracting is very competitive and price transparency is already high.

GSA Response: This information collection is specific to recipients of federal financial assistance, not contracts. Information collected under this information collection is required to comply with The Federal Funding Accountability and Transparency Act (FFATA), “Transparency Act,” requirements for subaward reporting.

Comment: GSA received a comment regarding the negative impacts that FFATA places on the industrial base, discouraging commercial firm participation in the federal marketplace. The commenter noted the requirement that contractors reveal their supply chain, loss of competitive advantage, and liability with properly reporting executive compensation and subaward data with a potential False Claims Act violation.

GSA Response: This information collection is specific to recipients of federal financial assistance, not contracts. Information collected under this information collection is required to comply with The Federal Funding Accountability and Transparency Act (FFATA), “Transparency Act,” requirements for subaward and executive compensation reporting.

Comment: GSA received a comment that clarification should be provided on subaward reporting of modifications to an already reported subcontract that exceeds the reporting threshold.

GSA Response: FSRS and the Federal Service Desk have significant help materials and guides to assist users with reporting data into FSRS.gov. The Federal Service Desk has agents that can assist entities where they are unable to answer their question within the help content.

Comment: GSA received two comments that FSRS should stop requiring prime contractors to report subcontractor executive compensation when that subcontractor has reported its executive compensation as a prime contractor.

GSA Response: GSA acknowledges the comment that in some circumstances the prime awardee could have a lower burden if the executive compensation information is pre-populated in the subaward report. However, if the executive compensation of the subawardee were populated in FSRS, the prime awardee would remain responsible for ensuring the correct executive compensation information for the preceding fiscal year was reported. GSA appreciates the feedback on usability and user experience and considers it when making updates to the respective service or page so as to improve the site user experience.

Comment: GSA received varying comments on improving FSRS website functions such as improving print functionality, improving the worklist, improving batch uploading, or auto populating some report data through a single click.

GSA Response: GSA appreciates feedback on usability and user experience and considers it when making updates to the respective service or page so as to improve the site user experience.

Comment: GSA received a comment that the reporting threshold in FAR 4.103(a) be increased from $30,000 to the Simplified Acquisition Threshold, currently $250,000.

GSA Response: GSA acknowledges this comment, but notes it is outside the scope of this information collection.

Comment: GSA received a comment requesting a minimum threshold value be implemented for subaward amount changes in FAR 52.204-10, so that subaward changes below this threshold did not require reporting.

GSA Response: GSA acknowledges this comment, but notes it is outside the scope of this information collection.

Comment: GSA received a comment about technical challenges users had with FSRS including congressional district errors, errors in very large reports, and obtaining timely responses from the help desk.

GSA Response: GSA provides the Federal Service Desk to assist with any technical challenges users may encounter. While the help desk strives for timely resolution, more complex technical issues may take longer to resolve.

Obtaining Copies of Proposals: Requesters may obtain a copy of the information collection documents from the General Services Administration, Regulatory Secretariat Division (MVCB), 1800 F Street NW, Washington, DC 20405, telephone 202-501-4755. Please cite OMB Control No. 3090-0292, FFATA Subaward and Executive Compensation Reporting Requirements, in all correspondence.

Lois Mandell,
Director, Regulatory Secretariat Division, General Services Administration.

[FR Doc. 2024-11437 Filed 5-23-24; 8:45 am]

BILLING CODE 6820-WY-P